DEPARTMENT OF ENERGY

Federal Energy Regulatory Commission

[Docket No. EL16-99-000]

Midcontinent Independent System Operator, Inc.; Notice of Institution of Section 206 Proceeding and Refund Effective Date

On July 21, 2016, the Commission issued an order in Docket No. EL16-99-000, pursuant to section 206 of the Federal Power Act (FPA), 16 U.S.C. 824e (2012), instituting an investigation into the justness and reasonableness of the Midcontinent Independent System Operator, Inc.'s Transmission, Energy and Operating Reserve Markets Tariff. Midcontinent Independent System Operator, Inc., 156 FERC ¶ 61,061 (2016).

The refund effective date in Docket No. EL16-99-000, established pursuant to section 206(b) of the FPA, will be the date of publication of this notice in the Federal Register.

Dated: July 21, 2016.
Nathaniel J. Davis, Sr.,
Deputy Secretary.

[FR Doc. 2016-17836 Filed 7-27-16; 8:45 am]

BILLING CODE 6717-01-P